DEPARTMENT OF COMMERCE

National Oceanic and Atmospheric Administration

RIN 0648-XB85

Marine Mammals; File No. 1120-1898

AGENCY: National Marine Fisheries Service (NMFS), National Oceanic and Atmospheric Administration (NOAA), Commerce.

ACTION: Notice; issuance of permit.

SUMMARY: Notice is hereby given that Eye of the Whale Research (Olga von Ziegesar, Principal Investigator), P.O. Box 15191, Fitz Creek, Alaska, 99603, has been issued a permit to conduct research on humpback whales (Megaptera novaeangliae).

ADDRESSES: The permit and related documents are available for review upon written request or by appointment in the following offices:

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Amy Hapeman or Brandy Hutnak, (301)713-2289.

SUPPLEMENTARY INFORMATION: On February 28, 2007, notice was published in the Federal Register (72 FR 8972) that a request for a scientific research permit to take humpback whales had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 1120-1898, issued to the Eye of the Whale Research, allows for the take of humpback whales in Prince William Sound and adjacent waters of Alaska to determine the population size, distribution, recurrence of individuals, feeding habits, vital rates, associations between animals, and sex of individuals. Researchers may closely approach up to 1,350 whales annually during vessel surveys for photo-identification and behavioral observation.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) Was applied for in good faith; (2) will not operate to the disadvantage of such endangered species; and (3) is consistent with the purposes and policies set forth in section 2 of the ESA.

Dated: August 3, 2007.
Tammy C. Adams,
Acting Chief, Permits, Conservation and Education Division, Office of Protected Resources, National Marine Fisheries Service.

[FR Doc. E7-15684 Filed 8-9-07; 8:45 am]

BILLING CODE 3510-22-S